DEPARTMENT OF TRANSPORTATION

Federal Aviation Administration

Notice of Opportunity for Public Comment on the Sale of Santa Isabel Airport, Santa Isabel, Puerto Rico.

AGENCY: Federal Aviation Administration (FAA), DOT.

ACTION: Notice.

SUMMARY: The FAA is issuing this notice to advise the public of the proposed sale of Santa Isabel Airport (PR27), Santa Isabel, Puerto Rico.

DATES: Comments must be received on or before February 23, 2015.

ADDRESSES: Comments on this notice may be mailed or delivered in triplicate to the FAA at the following address: Atlanta Airports District Office, Attn: Parks Preston, Program Manager, 1701 Columbia Ave., Campus Bldg., Suite 2-260, College Park, GA 30337-2747.

In addition, one copy of any comments submitted to the FAA must be mailed or delivered to the following address: Ingrid C. Colberg-Rodriguez, Esp., Executive Director, Puerto Rico Ports Authority, P.O. Box 362829, San Juan, PR 00936-2829.

FOR FURTHER INFORMATION CONTACT: Parks Preston, Program Manager, Atlanta Airports District Office, 1701 Columbia Ave., Campus Bldg., Suite 2-260, College Park, GA 30337, (404) 305-7149. The request may be reviewed in person at this same location.

SUPPLEMENTARY INFORMATION: On March 9, 1949, the U.S. government, through the Federal Farm Mortgage Corporation, conveyed the Santa Isabel Auxiliary Air Field to the Puerto Rico Transportation Authority through a deed of sale. The Civil Aviation Authority (CAA) issued a conditional release of nearly all Federal obligations, reservations and restrictions contained in the 1949 deed on June 28, 1957. This release retained the U.S. government's rights and interests with respect to any uranium, thorium, and fissionable materials and was subject to specific terms and conditions. On November 26, 2008, the Puerto Rico Ports Authority (PRPA) notified FAA of its plans to close Santa Isabel Airport per the terms and conditions contained in the 1957 release. PRPA plans to sell Santa Isabel Airport and all proceeds derived from any sale, lease or rental of any of the property included in the release will be used exclusively for the improvement or development of a public airport in accordance with the June 28, 1957 release letter. In addition to this notice, the PRPA intends to utilize electronic media to advertise the sale of the property.

Any person may inspect the request in person at the FAA office listed above under FOR FURTHER INFORMATION CONTACT.

In addition, any person may, upon request, inspect the request, notice and other documents germane to the request in person at the Puerto Rico Ports Authority offices.

Issued in College Park, Georgia, on January 14, 2015.
Larry F. Clark,
Manager, Atlanta Airports District Office, Southern Region.

[FR Doc. 2015-01150 Filed 1-22-15; 8:45 am]

BILLING CODE 4910-13-P